DEPARTMENT OF STATE

[Public Notice 5941]

Department of State Performance Review Board Members (at Large Board)

In accordance with section 4314(c)(4) of the Civil Service Reform Act of 1978 (Pub. L. 95-454), the Executive Resources Board of the Department of State has appointed the following individuals to the Department of State Performance Review Board (At-Large):

Richard L. Greene, Deputy Director, Office of the Director of U.S. Foreign Assistance, Department of State;

Glen H. Johnson, Office Director, Office of Verification Operations, Bureau of Verification, Compliance and Implementation, Department of State;

Catherine J. Russell, Associate Director for Management, Office of the Executive Director, Foreign Service Institute, Department of State;

James H. Thessin, Deputy Legal Adviser, Office of the Legal Adviser, Department of State;

Linda Thomas-Greenfield, Principal Deputy Assistant Secretary, Bureau of African Affairs, Department of State; (Outside Member).

Dated: September 16, 2007.
Heather M. Hodges,
Acting Director General of the Foreign Service and Director of Human Resources, Department of State.

[FR Doc. E7-18845 Filed 9-24-07; 8:45 am]

BILLING CODE 4710-15-P